DEPARTMENT OF TRANSPORTATION

Federal Aviation Administration

14 CFR Part 97

[Docket No. 30842; Amdt. No. 3478 ]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 25, 2012. The compliance date for each SIAP, associated Takeoff Minimums, and ODP is specified in the amendatory provisions.

The incorporation by reference of certain publications listed in the regulations is approved by the Director of the Federal Register as of May 25, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866;(2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 11, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 31 MAY 2012

Forest, VA, New London, RNAV (GPS) RWY 18, Orig

Forest, VA, New London, RNAV (GPS) RWY 36, Orig

Forest, VA, New London, Takeoff Minimums and Obstacle DP, Orig

Effective 28 JUNE 2012

Arcata/Eureka, CA, Arcata, ILS Y OR LOC/DME RWY 32, Amdt 2A

Arcata/Eureka, CA, Arcata, RNAV (GPS) RWY 32, Amdt 1A

Atlanta, GA, Hartsfield—Jackson Atlanta Intl, VOR RWY 27L, Amdt 4C, CANCELLED

Eagle Grove, IA, Eagle Grove Muni, NDB RWY 13, Amdt 2, CANCELLED

Fort Madison, IA, Fort Madison Muni, RNAV (GPS) RWY 35, Orig-A

Moline, IL, Quad City Intl, LOC RWY 10, Orig, CANCELLED

Moline, IL, Quad City Intl, RNAV (GPS) RWY 28, Orig, CANCELLED

Hutchinson, KS, Hutchinson Muni, ILS OR LOC RWY 13, Amdt 16B

Hutchinson, KS, Hutchinson Muni, RNAV (GPS) RWY 13, Orig-B

Hutchinson, KS, Hutchinson Muni, RNAV (GPS) RWY 31, Amdt 1

Glasgow, KY, Glasgow Muni, Takeoff Minimums and Obstacle DP, Amdt 1

Orange, MA, Orange Muni, VOR-A, Amdt 7

Worcester, MA, Worcester Rgnl, ILS OR LOC RWY 11, Amdt 23

Worcester, MA, Worcester Rgnl, ILS OR LOC RWY 29, Amdt 4

Worcester, MA, Worcester Rgnl, NDB RWY 11, Amdt 21, CANCELLED

Worcester, MA, Worcester Rgnl, RNAV (GPS) RWY 11, Amdt 1

Worcester, MA, Worcester Rgnl, RNAV (GPS) RWY 29, Amdt 1

Oak Island, NC, Cape Fear Rgnl Jetport/Howie Franklin Fld, RNAV (GPS) RWY 23, Orig

Oak Island, NC, Cape Fear Rgnl Jetport/Howie Franklin Fld, Takeoff Minimums and Obstacle DP, Amdt 1

Imperial, NE., Imperial Muni, NDB RWY 31, Amdt 3B, CANCELLED

Athens/Albany, OH, Ohio University Snyder Field, RNAV (GPS) RWY 25, Amdt 1A

Hamilton, OH, Butler Co Rgnl, ILS OR LOC RWY 29, Amdt 1A

Dallas, TX, Dallas Love Field, RNAV (GPS) RWY 31L, Amdt 1A

Dallas, TX, Dallas Love Field, RNAV (GPS) RWY 31R, Amdt 1A

Effective 26 JULY 2012

Talkeetna, AK, Talkeetna, NDB RWY 36, Amdt 3

Marion, AL, Vaiden Field, RNAV (GPS) RWY 16, Orig

Marion, AL, Vaiden Field, RNAV (GPS) RWY 34, Orig

Marion, AL, Vaiden Field, Takeoff Minimums and Obstacle DP, Orig

Marina, CA, Marina Muni, VOR/DME RWY 29, Amdt 2A

Mason City, IA, Mason City Muni, ILS OR LOC RWY 36, Amdt 6D

Mason City, IA, Mason City Muni, LOC/DME BC RWY 18, Amdt 7

Mason City, IA, Mason City Muni, VOR RWY 36, Amdt 6C

Mason City, IA, Mason City Muni, VOR/DME RWY 18, Amdt 5

Galesburg, IL, Galesburg Muni, ILS OR LOC/DME RWY 3, Amdt 10

Galesburg, IL, Galesburg Muni, RNAV (GPS) RWY 3, Orig

Galesburg, IL, Galesburg Muni, RNAV (GPS) RWY 21, Orig

Galesburg, IL, Galesburg Muni, VOR RWY 3, Amdt 7

Galesburg, IL, Galesburg Muni, VOR RWY 21, Amdt 7

Louisville, KY, Bowman Field, RNAV (GPS) RWY 24, Amdt 2

Trenton, MO, Trenton Muni, GPS RWY 18, Orig, CANCELLED

Trenton, MO, Trenton Muni, GPS RWY 36, Orig, CANCELLED

Trenton, MO, Trenton Muni, NDB RWY 36, Amdt 10

Trenton, MO, Trenton Muni, RNAV (GPS) RWY 18, Orig

Trenton, MO, Trenton Muni, RNAV (GPS) RWY 36, Orig

Lumberton, NJ, Flying W, RNAV (GPS) RWY 1, Amdt 1

Lumberton, NJ, Flying W, RNAV (GPS) RWY 19, Amdt 1

Lumberton, NJ, Flying W, Takeoff Minimums and Obstacle DP, Amdt 1

Lumberton, NJ, Flying W, VOR-A, Amdt 4

Norwich, NY, Lt Warren Eaton, Takeoff Minimums and Obstacle DP, Amdt 3

Antlers, OK, Antlers Muni, GPS RWY 35, Amdt 1, CANCELLED

Antlers, OK, Antlers Muni, NDB RWY 35, Amdt 3, CANCELLED

Antlers, OK, Antlers Muni, RNAV (GPS) RWY 35, Orig

Antlers, OK, Antlers Muni, Takeoff Minimums and Obstacle DP, Orig

Belle Fourche, SD, Belle Fourche Muni, RNAV (GPS) RWY 32, Amdt 1

Knoxville, TN, Mc Ghee Tyson, ILS OR LOC RWY 23R, ILS RWY 23R (SA CAT I), ILS RWY 23R (CAT II), Amdt 12

Hamilton, TX, Hamilton Muni, RNAV (GPS) RWY 18, Amdt 1

Hamilton, TX, Hamilton Muni, RNAV (GPS) RWY 36, Amdt 1

[FR Doc. 2012-12332 Filed 5-24-12; 8:45 am]

BILLING CODE 4910-13-P